DEPARTMENT OF THE TREASURY

Submission for OMB Review; Comment Request

September 25, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before November 6, 2002 to be assured of consideration.

Departmental Offices/International Portfolio Investment Data Reporting Systems

OMB Number: 1505-0024.

Form Number: International Capital Forms CQ-1 and CQ-2.

Type of Review: Revision.

Title: Treasury International Capital (TIC) Form CQ-1: Report of Financial Liabilities to, and Financial Claims on, Foreign Residents; and Form CQ-2: Report of Commercial Liabilities to, and Commercial Claims on, Unaffiliated Foreign Residents.

Description: Forms CQ-1 and CQ-2 are required by law to collect timely information on international portfolio capital movements, including data on financial and commercial liabilities to, and claims on, unaffiliated foreigners and certain affiliated foreigners held by non-banking enterprises in the U.S. This information is necessary for compiling the U.S. balance of payments accounts and the U.S. international investment position, and for formulating U.S. international financial and monetary policies.

Respondents: Business or other for-profit.

Estimated Number of Respondents: 400.

Estimated Burden Hours Per Respondent: 4 hours.

Frequency of Response: Quarterly.

Estimated Total Reporting Burden: 6,800 hours.

Clearance Officer: Lois K. Holland (202) 622-1563, Departmental Offices, Room 2110, 1425 New York Avenue, NW., Washington, DC 20220.

OMB Reviewer: Joseph F. Lackey, Jr. (202) 395-7316, Office of Management and Budget, Room 10235, New Executive Office Building.

Mary A. Able,
Departmental Reports Management Officer.

[FR Doc. 02-25360 Filed 10-4-02; 8:45 am]

BILLING CODE 4811-16-P